DEPARTMENT OF TRANSPORTATION

Federal Motor Carrier Safety Administration

[Docket ID. FMCSA-2007-0071]

Qualification of Drivers; Exemption Applications; Vision

AGENCY: Federal Motor Carrier Safety Administration (FMCSA), DOT.

ACTION: Notice of applications for exemptions; request for comments.

SUMMARY: FMCSA announces receipt of applications from 31 individuals for exemptions from the vision requirement in the Federal Motor Carrier Safety Regulations. If granted, the exemptions would enable these individuals to qualify as drivers of commercial motor vehicles (CMVs) in interstate commerce without meeting the Federal vision standard.

DATES: Comments must be received on or before March 3, 2008.

ADDRESSES: You may submit comments bearing the Federal Docket Management System (FDMS) Docket ID FMCSA-2007-0071 using any of the following methods:

• Federal eRulemaking Portal: Go to http://www.regulations.gov. Follow the online instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477-78; Apr. 11, 2000). This information is also available at http://Docketinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 31 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Dennis R. Baillargeon

Mr. Baillargeon, age 69, has a prosthetic left eye due to an injury sustained 40 years ago. The best corrected visual acuity in his right eye is 20/25. Following an examination in 2007, his optometrist noted, “Dennis R. Baillargeon has sufficient vision to perform the driving tasks required to operate a commercial vehicle, from the above testing.” Mr. Baillargeon reported that he has driven straight trucks for 25 years, accumulating 300,000 miles. He holds a Class A CDL from Wisconsin. His driving record for the last 3 years shows no crashes and one conviction for a moving violation, speeding in a CMV. He exceeded the speed limit by 10 mph.

Alberto Blanco

Mr. Blanco, 52, has had amblyopia in his left eye since childhood. The best corrected visual acuity in his right eye is 20/20 and in the left, 20/400. Following an examination in 2007, his ophthalmologist noted, “Patient has sufficient vision to perform the driving tasks required to operate a commercial vehicle.” Mr. Blanco reported that he has driven straight trucks for 7 years, accumulating 210,000 miles, tractor-trailer combinations for 8 years, accumulating 336,000 miles, and buses for 1 year, accumulating 25,000 miles. He holds a Class A CDL from North Carolina. His driving record for the last 3 years shows no crashes and one conviction for a moving violation, speeding in a CMV. He exceeded the speed limit by 9 mph.

Michael B. Canedy

Mr. Canedy, 41, has posterior uveitis in his right eye. The visual acuity in his right eye is 20/800 and in the left, 20/15. Following an examination in 2007, his ophthalmologist noted, “In my opinion, Mr. Michael Canedy is certainly safe and qualified to perform the driving tasks required to operate a commercial vehicle.” Mr. Canedy reported that he has driven straight trucks for 8 years, accumulating 320,000 miles. He holds a Class B CDL from Minnesota.

His driving record for the last 3 years shows no crashes and no convictions for moving violations in a CMV.

John Cencora

Mr. Cencora, 43, has had optic nerve atrophy in his left eye due to a traumatic injury sustained as a child. The best corrected visual acuity in his right eye is 20/25 and in the left, 20/400. Following an examination in 2007, his optometrist noted, “In my medical opinion, he has sufficient vision to operate a commercial vehicle.” Mr. Cencora reported that he has driven tractor-trailer combinations for 5 years, accumulating 130,000 miles. He holds a Class A CDL from California. His driving record for the last 3 years shows no crashes and no convictions for moving violations in a CMV.

Larry A. Cossin

Mr. Cossin, 58, has had amblyopia in his right eye since childhood. The best corrected visual acuity in his right eye is 20/64 and in the left, 20/30. Following an examination in 2007, his optometrist noted, “From these results, I believe Mr. Cossin does have sufficient visual acuity, visual field, and color discrimination continue to safely operate a commercial vehicle.” Mr. Cossin reported that he has driven straight trucks for 11 years, accumulating 205,700 miles. He holds a Class D operator's license from Ohio. His driving record for the last 3 years shows no crashes and no convictions for moving violations in a CMV.

Charles W. Cox

Mr. Cox, 49, has complete loss of vision in his right eye due to complete opacification of the cornea and lens at birth. The best corrected visual acuity in his left eye is 20/15. Following an examination in 2007, his optometrist noted, “Mr. Cox has sufficient vision to perform the driving tasks required to operate a commercial vehicle and he has many years experience in doing so.” Mr. Cox reported that he has driven straight trucks for 5 years, accumulating 2,000 miles, tractor-trailer combinations for 3 years, accumulating 3,000 miles, and buses for 12 years, accumulating 48,000 miles. He holds a Class A CDL from Arizona. His driving record for the last 3 years shows no crashes and no convictions for moving violations in a CMV.

Gary W. Ellis

Mr. Ellis, 45, has had anisometropia and amblyopia in his left eye since childhood. The best corrected visual acuity in his right eye is 20/20 and in the left, 20/400. Following an examination in 2007, his optometrist noted, “Given his past performance which you would have in your records, it is my opinion that Mr. Ellis has sufficient vision to perform the driving tasks required to operate a commercial vehicle.” Mr. Ellis reported that he has tractor-trailer combinations for 23 years, accumulating 1.9 million miles. He holds a Class A CDL from North Carolina. His driving record for the last 3 years shows no crashes and no convictions for moving violations in a CMV.

Dennis J. Evers

Mr. Evers, 54, has had amblyopia in his right eye since childhood. The best corrected visual acuity in his right eye is 20/400 and in the left, 20/20. Following an examination in 2007, his optometrist noted, “Mr. Evers has sufficient vision to perform the driving tasks required to operate a commercial vehicle.” Mr. Evers reported that he has driven straight trucks for 14 years, accumulating 56,000 miles. He holds a Class D operator's license from Oklahoma. His driving record for the last 3 years shows no crashes and no convictions for moving violations in a CMV.

Hector O. Flores

Mr. Flores, 27, has had amblyopia in his left eye since birth. The best corrected visual acuity in his right eye is 20/20 and in the left, 20/80. Following an examination in 2007, his ophthalmologist noted, “I certify that Hector Flores has sufficient vision to perform driving tasks required to operate a commercial vehicle.” Mr. Flores reported that he has driven tractor-trailer combinations for 4 years, accumulating 240,000 miles. He holds a Class A CDL from Maryland. His driving record for the last 3 years shows one crash that resulted in one conviction for a moving violation in a CMV, failure to make a left turn from the proper lane.

Roger W. Goold

Mr. Goold, 66, has had complete loss of vision in his left eye due to a traumatic injury sustained at age 19. The visual acuity in his right eye is 20/20. Following an examination in 2007, his optometrist noted, “In my opinion, Roger Goold has sufficient vision to perform the driving tasks required to operate a commercial vehicle.” Mr. Goold reported that he has driven straight trucks for 45 years, accumulating 67,500 miles. He holds a Class A CDL from Arizona. His driving record for the last 3 years shows no crashes and no convictions for moving violations in a CMV.

K. Lee Guse

Mr. Guse, 64, has a retinal scar in his left eye which was sustained at birth. The best corrected visual acuity in his right eye is 20/20 and in the left, 20/400. Following an examination in 2007, his optometrist noted, “This defect should not affect his ability to operate a commercial vehicle.” Mr. Guse reported that he has driven straight trucks 16 years, accumulating 160,000 miles. He holds a Class B CDL from Ohio. His driving record for the last 3 years shows no crashes and no convictions for moving violations in a CMV.

Steven W. Halsey

Mr. Halsey, 40, has had amblyopia in his left eye since childhood. The best corrected visual acuity in his right eye is 20/20 and in the left, 20/400. Following an examination in 2007, his optometrist noted, “In my medical opinion, Mr. Halsey has sufficient vision to perform the driving tasks required to operate a commercial vehicle.” Mr. Halsey reported that he has driven straight trucks for 11 years, accumulating 165,000 miles. He holds a Class B CDL from Missouri. His driving record for the last 3 years shows no crashes and no convictions for moving violations in a CMV.

John D. Hamm

Mr. Hamm, 52, has had amblyopia in his left eye since birth. The best corrected visual acuity in his right eye is 20/20 and in the left, 20/100. Following an examination in 2007, his optometrist noted, “In my professional opinion, Mr. Hamm has adequate vision to operate a commercial vehicle.” Mr. Hamm reported that he has driven straight trucks for 36 years, accumulating 1.7 million miles, tractor-trailer combinations for 18 years, accumulating 360,000 miles, and buses for 11 years, accumulating 242,000 miles. He holds a Class B CDL from Alabama. His driving record for the last 3 years shows no crashes and no convictions for moving violations in a CMV.

Clifford J. Harris

Mr. Harris, 50, has had amblyopia in his right eye since birth. The best corrected visual acuity in his right eye is count-finger vision and in the left, 20/15. Following an examination in 2007, his ophthalmologist noted, “I certify that Mr. Harris has sufficient vision to perform the driving tasks required to operate a commercial vehicle.” Mr. Harris reported that he has driven tractor-trailer combinations for 8 years, accumulating 624,000 miles. He holds a Class A CDL from California. His driving record for the last 3 years shows no crashes and no convictions for moving violations in a CMV.

John C. Henricks

Mr. Henricks, 36, has had amblyopia in his right eye since birth. The best corrected visual acuity in his right eye is 20/200 and in the left, 20/20. Following an examination in 2007, his optometrist noted, “It is my medical opinion that Mr. John Henricks has sufficient vision to perform driving tasks required to operate a commercial vehicle.” Mr. Henricks reported that he has driven straight trucks for 11 years, accumulating 93,500 miles, and tractor-trailer combinations for 10 years, accumulating 85,000 miles. He holds a Class A CDL from Ohio. His driving record for the last 3 years shows no crashes and no convictions for moving violations in a CMV.

Michael A. Hilderbrand

Mr. Hilderbrand, 28, has had posterior staphyloma in his right eye since 1990. The best corrected visual acuity in his right eye is count-finger vision and in the left, 20/20. Following an examination in 2007, his optometrist noted, “In my medical opinion. Michael Hilderbrand has sufficient vision to perform the driving tasks required to operate a commercial vehicle.” Mr. Hilderbrand reported that he has driven straight trucks for 3 years, accumulating 78,000 miles. He holds a Class C operator's license from Pennsylvania. His driving record for the last 3 years shows no crashes and no convictions for moving violations in a CMV.

Richard L. Larson

Mr. Larson, 63, has had a retinal detachment in his right eye due to a traumatic injury sustained in 1968. The best corrected visual acuity in his right eye is count-finger vision and in the left, 20/15. Following an examination in 2007, his optometrist noted, “It is my medical opinion that Mr. Larson has sufficient vision both centrally and peripherally to safely operate a commercial vehicle based on his visual performance at the time of his exam with me and the years of safe commercial experience he has stated he has.” Mr. Larson reported that he has driven straight trucks for 45 years, accumulating 112,500 miles, and tractor-trailer combinations for 35 years, accumulating 1.1 million miles. He holds a Class A CDL from Montana. His driving record for the last 3 years shows no crashes and no convictions for moving violations in a CMV.

Thomas M. Leadbitter

Mr. Leadbitter, 51, has had amblyopia in his left eye since childhood. The best corrected visual acuity in his right eye is 20/20 and in the left, 20/200. Following an examination in 2007, his optometrist noted, “Ok to drive with correction and has sufficient vision to perform driving tasks to operate a commercial vehicle.” Mr. Leadbitter reported that he has driven straight trucks for 35 years, accumulating 1.4 million miles. He holds a Class A CDL from Pennsylvania. His driving record for the last 3 years shows no crashes and one conviction for a moving violation in a CMV, failure to obey a traffic signal.

John L. Lewis

Mr. Lewis, 75, has a prosthetic left eye due to an injury sustained as a child. The best corrected visual acuity in his right eye is 20/20. Following an examination in 2007, his optometrist noted, “It is my medical opinion that Mr. John Lewis has sufficient vision to perform the driving tasks required to operate a commercial vehicle.” Mr. Lewis reported that he has driven straight trucks for 56 years, accumulating 2.4 million miles, tractor-trailer combinations for 48 years, accumulating 480,000 miles, and buses for 9 years, accumulating 4,500 miles. He holds a Class A CDL from Oklahoma. His driving record for the last 3 years shows no crashes and no convictions for moving violations in a CMV.

Jonathan P. Lovel

Mr. Lovel, 38, has macular damage in his right eye due to a traumatic injury sustained 16 years ago. The best corrected visual acuity in his right eye is 20/200 and in the left, 20/20. Following an examination in 2007, his optometrist noted, “In my medical opinion, this gentleman has sufficient vision to perform driving tasks required to operate a commercial vehicle.” Mr. Lovel reported that he has driven straight trucks for 16 years, accumulating 480,000 miles. He holds a Class D operator's license from Illinois. His driving record for the last 3 years shows no crashes and no convictions for moving violations in a CMV.

Douglas A. Mendoza

Mr. Mendoza, 35, has had amblyopia in his right eye since childhood. The best corrected visual acuity in his right eye is 20/200 and in the left, 20/20. Following an examination in 2007, his optometrist noted, “In my medical opinion, Mr. Mendoza has sufficient vision to perform the driving tasks required to operate a commercial vehicle.” Mr. Mendoza reported that he has driven straight trucks for 5 years, accumulating 175,000 miles. He holds a Class C operator's license from Maryland. His driving record for the last 3 years shows no crashes and no convictions for moving violations in a CMV.

Antonio Ribeiro

Mr. Ribeiro, 47, has had amblyopia in his right eye since childhood. The visual acuity in his right eye is 20/80 and in the left, 20/20. Following an examination in 2007, his ophthalmologist noted, “In my medical opinion, I certify that Mr. Ribeiro has sufficient vision to perform the driving tasks required to operate a commercial vehicle.” Mr. Ribeiro reported that he has driven straight trucks for 15 years, accumulating 75,000 miles. He holds a Class B CDL from New York. His driving record for the last 3 years shows no crashes and no convictions for moving violations in a CMV.

Enrique G. Salinas, Jr.

Mr. Salinas, 65, has had central retinal vein occlusion in his left eye since 2003. The best corrected visual acuity in his right eye is 20/25 and in the left, hand-motion vision. Following an examination in 2007, his ophthalmologist noted, “In my medical opinion, Mr. Salinas has sufficient vision to perform driving tasks necessary to operate a commercial vehicle.” Mr. Salinas reported that he has driven straight trucks for 4 years, accumulating 200,000 miles, and tractor-trailer combinations for 35 years, accumulating 3.2 million miles. He holds a Class A CDL from Texas. His driving record for the last 3 years shows no crashes and no convictions for moving violations in a CMV.

Anthony T. Smith.

Mr. Smith, 42, has a prosthetic left eye due to a traumatic injury sustained as a child. The visual acuity in his right eye is 20/20. Following an examination in 2007, his optometrist noted, “In my opinion, his vision is stable and he is able to drive a commercial vehicle.” Mr. Smith reported that he has driven straight trucks for 19 years, accumulating 1.1 million miles, and tractor-trailer combinations for 5 years, accumulating 405,000 miles. He holds a Class A CDL from Michigan. His driving record for the last 3 years shows no crashes and one conviction for a moving violation in a CMV. He exceeded the speed limit by 5 mph.

David N. Stubbs

Mr. Stubbs, 57, has had amblyopia in his left eye since childhood. The best corrected visual acuity in his right eye is 20/20 and in the left, 20/400. Following an examination in 2007, his ophthalmologist noted, “In my medical opinion, he does have sufficient vision to perform driving test required to operate a bob truck, which is a commercial vehicle and which is what he drives at this time. Mr. Stubbs does not see well in his left eye, but he has been that way all his life and he has developed sufficient depth perception to operate a commercial vehicle.” Mr. Stubbs reported that he has driven straight trucks for 14 years, accumulating 158,200 miles. He holds a Class D operator's license from Mississippi. His driving record for the last 3 years shows no crashes and no convictions for moving violations in a CMV.

J.D. Taylor

Mr. Taylor, 69, has macular degeneration in his right eye. The best corrected visual acuity in his right eye is 20/200 and in the left, 20/30. Following an examination in 2007, his optometrist noted, “In my medical opinion, Mr. Taylor has sufficient vision to perform the task of a commercial vehicle operator.” Mr. Taylor reported that he has driven straight trucks for 32 years, accumulating 1.3 million miles. He holds a Class B CDL from Texas. His driving record for the last 3 years shows no crashes and no convictions for moving violations in a CMV.

Charles W. Towner, Jr.

Mr. Towner, 44, has complete loss of vision in his left eye due to a traumatic injury sustained 4 years ago. The best corrected visual acuity in his right eye is 20/20. Following an examination in 2007, his optometrist noted, “With vision correctable to 20/20 in the right eye. It is my medical opinion that Mr. Charles Towner has sufficient vision to operate a commercial vehicle.” Mr. Towner reported that he has driven straight trucks for 3½ years, accumulating 227,500 miles. He holds a Class D operator's license from Florida. His driving record for the last 3 years shows no crashes and no convictions for moving violations in a CMV.

James D. Tucker

Mr. Tucker, 50, has loss of vision in his left eye due to a traumatic injury sustained 4 years ago. The best corrected visual acuity in his right eye is 20/15 and in the left, light perception. Following an examination in 2007, his ophthalmologist noted, “In my opinion, this patient has the vision required to drive a commercial vehicle.” Mr. Tucker reported that he has driven tractor-trailer combinations for 24 years, accumulating 1.8 million miles. He holds a Class A CDL from Texas. His driving record for the last 3 years shows no crashes and no convictions for moving violations in a CMV.

John J. Wagner

Mr. Wagner, 51, has had amblyopia in his left eye since childhood. The best corrected visual acuity in his right eye is 20/20 and in the left, 20/400. Following an examination in 2007, his ophthalmologist noted, “In my medical opinion, John Wagner has significant vision required to perform the driving tasks required to operate a commercial vehicle.” Mr. Wagner reported that he has driven straight trucks for 32 years, accumulating 960,000 miles, and tractor-trailer combinations for 2 years, accumulating 60,000 miles. He holds a Class A CDL from Pennsylvania. His driving record for the last 3 years shows no crashes and no convictions for moving violations in a CMV.

Kevin D. White

Mr. White, 35, has complete loss of vision in his left eye due to a traumatic injury sustained as a child. The visual acuity in his right eye is 20/20. Following an examination in 2007, his optometrist noted, “it is my medical opinion that Mr. White does in fact meet the vision requirements to operate a commercial vehicle.” Mr. White reported that he has driven straight trucks for 6 years, accumulating 900,000 miles, and tractor-trailer combinations for 6 years, accumulating 900,000 miles. He holds a Class A CDL from Texas. His driving record for the last 3 years shows no crashes and no convictions for moving violations in a CMV.

Richard W. Wylie

Mr. Wylie, 35, has had amblyopia in his right eye since childhood. The best corrected visual acuity in his right eye is 20/70 and in the left, 20/20. Following an examination in 2007, his optometrist noted, “After evaluating Richard, I am very confident that his vision is sufficient to perform the driving tasks required to operate commercial vehicle.” Mr. Wylie reported that he has driven straight trucks for 13½ years, accumulating 432,000 miles, and tractor-trailer combinations for 2½ years, accumulating 402,500 miles. He holds a Class A CDL from Connecticut. His driving record for the last 3 years shows no crashes and no convictions for moving violations in a CMV.

Request for Comments

In accordance with 49 U.S.C. 31136(e) and 31315, FMCSA requests public comment from all interested persons on the exemption petitions described in this notice. The Agency will consider all comments received before the close of business March 3, 2008. Comments will be available for examination in the docket at the location listed under the ADDRESSES section of this notice.

The Agency will file comments received after the comment closing date in the public docket, and will consider them to the extent practicable. In addition to late comments, FMCSA will also continue to file, in the public docket, relevant information that becomes available after the comment closing date. Interested persons should monitor the public docket for new material.

Issued on: January 28, 2008.
Larry W. Minor,
Associate Administrator for Policy and Program Development.

[FR Doc. E8-1881 Filed 1-31-08; 8:45 am]

BILLING CODE 4910-EX-P